DEPARTMENT OF HOMELAND SECURITY

Coast Guard

33 CFR Part 147

[Docket Number USCG-2014-0863]

RIN 1625-AA00

Safety Zone; Big Foot TLP, Walker Ridge 29, Outer Continental Shelf on the Gulf of Mexico

AGENCY: Coast Guard, DHS.

ACTION: Interim rule and request for comments.

SUMMARY: The Coast Guard is establishing a safety zone around the Big Foot Tension Leg Platform construction site, located in Walker Ridge Block 29 on the Outer Continental Shelf (OCS) in the Gulf of Mexico. The purpose of this interim rule is to include the construction area and protect the facility and all operations during the construction phase from all vessels operating outside the normal shipping channels and fairways that are not providing services to or working with the facility. Placing a safety zone around the facility while under construction that includes the construction site will significantly reduce the threat of allisions, collisions, security breaches, oil spills, releases of natural gas, and thereby protect the safety of life, property, and the environment.

DATES: This rule is effective without actual notice July 17, 2015. For the purposes of enforcement, actual notice will be used from June 3, 2015 until July 17, 2015. Comments and related material must be received by the Coast Guard on or before August 3, 2015.

ADDRESSES: Documents mentioned in this preamble are part of Docket Number USCG-2014-0863. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

You may submit comments, identified by docket number, using any one of the following methods:

(1) Federal eRulemaking Portal: http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Mr. Rusty Wright, U.S. Coast Guard, District Eight Waterways Management Branch; telephone 504-671-2138, rusty.h.wright@uscg.mil. If you have questions on viewing or submitting material to the docket, call Cheryl Collins, Program Manager, Docket Operations, telephone (202) 366-9826.

SUPPLEMENTARY INFORMATION:

Table of Acronyms

DHS Department of Homeland Security

NPRM Notice of Proposed Rulemaking

OCS Outer Continental Shelf

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one, using one of the methods specified under ADDRESSES. Please explain why you believe a public meeting would be beneficial. If we determine that one would aid this rulemaking, we will hold one at a time and place announced by a later notice in the Federal Register.

B. Regulatory History and Information

On March 25, 2015 we published a Notice of Proposed Rulemaking (NPRM) with a request for comments entitled, “Safety Zone; Big Foot TLP, Walker Ridge 29, Outer Continental Shelf on the Gulf of Mexico” in the Federal Register (80 FR 15703). We received no comments on the NPRM. Before publication of the final rule, Chevron North America (Chevron) notified the Coast Guard of specific challenges during the Big Foot Tension Leg Platform's (TLP) construction phase. Specifically, multiple tendon failures occurred while the Big Foot TLP was going through installation operations. These tendon failures resulted in losing a buoyancy can, which went adrift. Subsequently, the construction operation was put on hold but the remaining tendons and construction/attending vessels and equipment remain on site. The Coast Guard decided to expand the original proposed safety zone to include the construction site as part of the facility for purposes of an interim safety zone during the construction phase. Under 33 CFR 147.1, a safety zone may be established around OCS facilities being constructed, maintained, or operated for safety of life and property. And, under 33 CFR 147.15, a safety zone may extend up to a maximum of 500 meters around an OCS facility measuring from the facility's outer most edge or from its construction site. While the remaining tendons and construction vessels and equipment remain on site and during construction of the Big Foot TLP, this interim rule is necessary to establish the safety zone as extending 500 meters from the construction site to protect persons and vessels from hazards inherent to construction of this type of platform on the OCS. Once the Big Foot TLP facility is constructed, a final rule will revise the safety zone to extend from the constructed facility's outer most edges.

This interim rule follows an NPRM that received no comments. The Coast Guard is issuing this interim rule without further notice pursuant to authority under section 4(a) of the Administrative Procedure Act (APA) (5 U.S.C. 553(b)). This provision authorizes an agency to issue a rule without prior notice when the agency for good cause finds that those procedures are “impracticable, unnecessary, or contrary to the public interest.” As stated above, an NPRM proposing a safety zone around the Big Foot TLP facility was published in March and no comments were received. The NPRM provided prior notice and opportunity to comment. This interim rule provides additional opportunity to comment. Under 5 U.S.C. 553(b)(3)(B), the Coast Guard finds that good cause exists for not providing additional notice with respect to this interim rule establishing the safety zone as extending from the construction site rather than from the facility location. Construction and installation operations are expected to resume promptly and immediate action is necessary to establish this interim OCS safety zone during the Big Foot TLP's construction phase to protect life and property from the hazards associated with and resulting from the construction operations.

For the same reasons, under 5 U.S.C. 553(d)(3), the Coast Guard finds that good cause exists for making this rule effective in less than 30 days after publication in the Federal Register.

C. Basis and Purpose

The legal basis and authorities for this rule are found in 14 U.S.C. 85; 43 U.S.C. 1333; and Department of Homeland Security Delegation No. 0170.1, which collectively authorize the Coast Guard to establish and define OCS safety zones.

Because of construction and installation complications, the Coast Guard explored establishing the safety zone proposed in the NPRM published in March 2015 (80 FR 15703) as an interim rule, rather than a final rule at this time, extending from the construction site during the construction phase. Chevron also requested that the Coast Guard establish the interim OCS safety zone around the Big Foot TLP construction site located in the deepwater area of the Gulf of Mexico on the OCS. Placing a safety zone around the construction site will significantly reduce the threat of allisions, oil spills, and releases of natural gas, and thereby protect the safety of life, property, and the environment.

The construction and installation complications pose significant safety hazards to vessels and mariners operating in the area. The Coast Guard is issuing this interim rule during construction which Chevron anticipates continuing for at least six months. Establishing the OCS safety zone to extend 500 meters (1640.4 feet) from the outside of the ½ x ½ square mile construction site is necessary to maintain navigational safety during the anticipated six month construction phase.

D. Discussion of the Interim Rule

The Coast Guard is establishing an interim OCS safety zone extending 500 meters (1640.4 feet) from the outer edges of the Big Foot TLP's ½ mile by ½ mile construction site. The construction site outermost points are located at:

NW Corner 26-56-18.85 N, 090-31-26.44 W

NE Corner 26-56-18.85 N, 090-30-53.06 W

SE Corner 26-55-46.76 N, 090-30-53.06 W

SW Corner 26-55-46.76 N, 090-31-26.44 W

Transit into and through this area is prohibited beginning upon signature of this rule and will continue until construction efforts are complete. Deviation from this OCS safety zone is prohibited unless specifically authorized by the District Commander or a designated representative. Deviation requests will be considered and reviewed on a case-by-case basis. The District Commander may be contacted by telephone at 1-800-939-7203.

E. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. This rule is not a significant regulatory action due to the location of the Big Foot TLP—on the Outer Continental Shelf—and its distance from both land and safety fairways. Vessel traffic can pass safely around the safety zone using alternate routes. Deviation to transit through the safety zone may be requested. Such requests will be considered on a case-by-case basis and may be authorized by the Commander, Eighth Coast Guard District or a designated representative.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule would not have a significant economic impact on a substantial number of small entities.

This rule may affect the following entities, some of which might be small entities: The owners or operators of vessels intending to transit or anchor in Walker Ridge Block 29, where this safety zone is now established.

This safety zone will not have a significant economic impact or a substantial number of small entities for the following reasons: Vessel traffic can pass safely around the safety zone using an alternate route. Use of an alternate route may cause minimal delay in reaching a final destination, depending on other traffic in the area and vessel speed. Vessels may request deviation from this rule to transit through the safety zone. Such requests will be considered on a case-by-case basis and may be authorized by the Commander, Eighth Coast Guard District or a designated representative. Therefore, the Coast Guard expects any impact of this rulemaking establishing a safety zone around an OCS facility to be minimal, with no significant economic impact on small entities.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children From Environmental Health Risks

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This rule involves the establishment of a safety zone around an OCS Facility to protect life, property and the marine environment. This rule is categorically excluded from further review under paragraph 34(g) of Figure 2-1 of the Commandant Instruction. The environmental analysis checklist supporting this determination and Categorical Exclusion Determination are available in the docket where indicated under ADDRESSES.

List of Subjects in 33 CFR Part 147

Continental shelf, Marine safety, Navigation (water).

For the reasons discussed in the preamble, the Coast Guard amends 33 CFR part 147 as follows:

PART 147—SAFETY ZONES

1. The authority citation for part 147 continues to read as follows:

Authority: 14 U.S.C. 85; 43 U.S.C. 1333; and Department of Homeland Security Delegation No. 0170.1.

2. Add § 147.861 to read as follows:

§ 147.861 Interim Big Foot TLP Construction Site safety zone.

(a) Description. The Big Foot Tension Leg Platform (TLP) construction site is in the deepwater area of the Gulf of Mexico at Walker Ridge 29. The Big Foot TLP construction site outermost points are located at:

NW Corner 26-56-18.85 N, 090-31-26.44 W

NE Corner 26-56-18.85 N, 090-30-53.06 W

SE Corner 26-55-46.76 N, 090-30-53.06 W

SW Corner 26-55-46.76 N, 090-31-26.44 W,

and the area within 500 meters of the construction site's outermost points, is a safety zone.

(b) Regulation. No vessel may enter or remain in this safety zone except the following:

(1) An attending vessel;

(2) A vessel authorized by the Commander, Eighth Coast Guard District or a designated representative.

Dated: June 3, 2015.
David R. Callahan,
Rear Admiral, U.S. Coast Guard, Commander, Eighth Coast Guard District.

[FR Doc. 2015-17620 Filed 7-16-15; 8:45 am]

BILLING CODE 4910-15-P